DEPARTMENT OF HOUSING AND URBAN DEVELOPMENT

[Docket No. FR-5683-N-18]

Notice of Submission of Proposed Information Collection to OMB: Assisted Living Conversion Program (ALCP) and Emergency Capital Repair Program (ECRP)

AGENCY: Office of the Chief Information Officer, HUD.

ACTION: Notice.

SUMMARY: The proposed information collection requirement described below has been submitted to the Office of Management and Budget (OMB) for review, as required by the Paperwork Reduction Act. The Department is soliciting public comments on the subject proposal.

The Assisted Living Conversion Program and the Emergency Capital Repair Program application submission requirements are necessary to assist HUD in determining an applicant's eligibility and the capacity to carry out a successful conversion of a project or make the necessary emergency repairs. A careful evaluation of the application is conducted to ensure that the Federal Government's interest is protected and to mitigate any possibilities of fraud, waste, or misuse of public funds. The purpose of collecting the application submission information is for the Department to assess the applicant's worthiness, whether the projects meet statutory and regulatory requirements, or make sound judgments regarding the potential risk to the Government.

DATES: Comments Due Date: April 4, 2013.

ADDRESSES: Interested persons are invited to submit comments regarding this proposal. Comments should refer to the proposal by name and/or OMB approval Number (2502-0542) and should be sent to: HUD Desk Officer, Office of Management and Budget, New Executive Office Building, Washington, DC 20503; fax: 202-395-5806. Email: OIRA_Submission@omb.eop.gov fax: 202-395-5806.

FOR FURTHER INFORMATION CONTACT: Colette Pollard., Reports Management Officer, QDAM, Department of Housing and Urban Development, 451 Seventh Street SW., Washington, DC 20410; email Colette Pollard at Colette.Pollard@hud.gov. or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposed: Assisted Living Conversion Program (ALCP) and Emergency Capital Repair Program (ECRP).

OMB Approval Number: 2502-0542.

Form Numbers: HUD 424 CB, HUD 92047, HUD-96011, HUD-2994-A, SF-424, SF-424-SUPP., SF-LLL, HUD-2880, HUD-2990-2991, HUD-2530, HUD-96010, HUD-50080-ALCP, SF-269, HUD 92045, HUD 424 CBW, HUD 92046, HUD 50080 ECRP, HUD 27300.

Description of the need for the information and proposed use: The Assisted Living Conversion Program and the Emergency Capital Repair Program application submission requirements are necessary to assist HUD in determining an applicant's eligibility and the capacity to carry out a successful conversion of a project or make the necessary emergency repairs. A careful evaluation of the application is conducted to ensure that the Federal Government's interest is protected and to mitigate any possibilities of fraud, waste, or misuse of public funds. The purpose of collecting the application submission information is for the Department to assess the applicant's worthiness, whether the projects meet statutory and regulatory requirements, or make sound judgments regarding the potential risk to the Government.

| Number of respondents | Annual responses | × | Hours per response | Burden hours
Reporting Burden | 31 | 17.16 |  | 1.513 | 805

Total Estimated Burden Hours: 805.

Status: This is an extension without change of a currently approved collection.

Authority: Section 3507 of the Paperwork Reduction Act of 1995, 44 U.S.C. 35, as amended.

Dated: February 27, 2013.
Colette Pollard,
Department Reports Management Officer, Office of the Chief Information Officer.

[FR Doc. 2013-05074 Filed 3-4-13; 8:45 am]

BILLING CODE 4210-67-P